SURFACE TRANSPORTATION BOARD

[Docket No. AB 1247 (Sub-No. 1X)]

Illinois Railway, LLC—Discontinuance of Service Exemption—in Ogle County, Ill.

Illinois Railway, LLC (IR), has filed a verified notice of exemption under 49 CFR pt. 1152 subpart F—Exempt Abandonments and Discontinuances of Service to discontinue common carrier service over approximately 11 miles of railroad between milepost 11.31 at Davis Junction (excluding the junction point with Soo Line Railroad Company, which will remain open for traffic originating and terminating at points on IR north of Davis Junction) and milepost 0.29 at Flagg Center, all in Ogle County, Ill. (the Line). The Line traverses U.S. Postal Service Zip Codes 61068 and 61020.

IR has certified that: (1) No local traffic has moved over the Line for at least two years; (2) overhead traffic on the Line can be rerouted over other lines; (3) no formal complaint filed by a user of rail service on the Line (or by a state or local government entity acting on behalf of such user) regarding cessation of service over the Line either is pending with the Surface Transportation Board (Board) or with any U.S. District Court or has been decided in favor of complainant within the two-year period; and (4) the requirements at 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ¹ to subsidize continued rail service has been received, this exemption will be effective on May 19, 2019, unless stayed pending reconsideration. Petitions to stay that do not involve environmental issues and formal expressions of intent to file an OFA to subsidize continued rail service under 49 CFR 1152.27(c)(2) ² must be filed by April 29, 2019.³ Petitions for reconsideration must be filed by May 9, 2019, with the Surface Transportation Board, 395 E Street SW, Washington, DC 20423-0001.

¹ The Board modified its OFA procedures effective July 29, 2017. Among other things, the OFA process now requires potential offerors, in their formal expression of intent, to make a preliminary financial responsibility showing based on a calculation using information contained in the carrier's filing and publicly available information. See Offers of Financial Assistance, EP 729 (STB served June 29, 2017); 82 FR 30,997 (July 5, 2017).

² Each OFA must be accompanied by the filing fee, which currently is set at $1,800. See CFR 1002.2(f)(25).

³ Because this is a discontinuance proceeding and not an abandonment, trail use/rail banking and public use conditions are not appropriate. Because there will be an environmental review during abandonment, this discontinuance does not require environmental review.

A copy of any petition filed with the Board should be sent to IR's representative, Bradon J. Smith, Fletcher & Sippel LLC, 29 North Wacker Drive, Suite 800, Chicago, IL 60606.

If the verified notice contains false or misleading information, the exemption is void ab initio.

Board decisions and notices are available at www.stb.gov.

Decided: April 16, 2019.
By the Board, Allison C. Davis, Acting Director, Office of Proceedings.
Regena Smith-Bernard,
Clarence Clerk.

[FR Doc. 2019-07893 Filed 4-18-19; 8:45 am]

BILLING CODE 4915-01-P